DEPARTMENT OF ENERGY

Western Area Power Administration

Construction and Operation of the Proposed Big Stone II Power Plant and Transmission Project, South Dakota and Minnesota

AGENCY: Western Area Power Administration, DOE.

ACTION: Extension of scoping period.

SUMMARY: This notice advises the public that the Western Area Power Administration (Western), U.S. Department of Energy (DOE), is extending the scoping period for the Construction and Operation of the Proposed Big Stone II Power Plant and Transmission Project, South Dakota and Minnesota, Environmental Impact Statement (EIS) to August 29, 2005.

DATES: The scoping period for the EIS is extended from July 27, 2005, to August 29, 2005. Written comments are requested by the end of the day on August 29, 2005, to help define the scope for the EIS. Other opportunities to comment will be provided during the EIS process.

ADDRESSES: Written comments regarding the scoping process should be addressed to NEPA Document Manager, Big Stone II EIS, A7400, Western Area Power Administration, PO Box 281213, Lakewood, CO 80228-8213, telephone (800) 336-7288, fax (720) 962-7263 or 7269, e-mail BigStoneEIS@wapa.gov.

FOR FURTHER INFORMATION CONTACT: NEPA Document Manager, Big Stone II EIS, A7400, Western Area Power Administration, PO Box 281213, Lakewood, CO 80228-8213, telephone (800) 336-7288, fax (720) 962-7263 or 7269, e-mail BigStoneEIS@wapa.gov. For general information on DOE's National Environmental Policy Act (NEPA) review procedures or status of a NEPA review, contact Ms. Carol M. Borgstrom, Director of NEPA Policy and Compliance, EH-42, U.S. Department of Energy, 1000 Independence Avenue SW., Washington, DC 20585, telephone (202) 586-4600 or (800) 472-2756.

SUPPLEMENTARY INFORMATION: By notice dated May 27, 2005 (70 FR 30716), Western announced the Notice of Intent to prepare an EIS for the construction and operation of the proposed Big Stone II Power Plant and Transmission Project in South Dakota and Minnesota. In that notice, Western described the schedule for scoping meetings for the EIS, and advised that the scoping period would close Wednesday, July 27, 2005. The public meetings were held as scheduled.

Otter Tail Power Company, as part of the Minnesota Public Utilities Commission permit requirements for siting high-voltage transmission lines, intends to notify landowners about the proposed transmission corridors in late July 2005. To provide the landowners ample opportunity to provide input to the scope of the EIS, Western will extend the scooping period to August 29, 2005.

Dated: July 19, 2005.
Michael S. Hacskaylo,
Administrator.

[FR Doc. 05-14690 Filed 7-25-05; 8:45 am]

BILLING CODE 6450-01-P